DEPARTMENT OF THE INTERIOR

National Park Service

[NPS-WASO-NAGPRA-NPS0025556; PPWOCRADN0-PCU00RP14.R50000]

Notice of Inventory Completion: Berkshire Museum, Pittsfield, MA

AGENCY: National Park Service, Interior.

ACTION: Notice.

SUMMARY: The Berkshire Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Berkshire Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Berkshire Museum at the address in this notice by July 18, 2018.

ADDRESSES: Jason Vivori, Berkshire Museum, 39 South Street, Pittsfield, MA 01201, telephone (413) 443-7171 ext. 341, email jvivori@berkshiremuseum.org.

SUPPLEMENTARY INFORMATION: Notice is here given in accordance with the Native American Graves Protection and Repatriation Act (NAGPRA), 25 U.S.C. 3003, of the completion of an inventory of human remains under the control of the Berkshire Museum, Pittsfield, MA. The human remains were removed from Lake Shawano, Shawano County, WI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Berkshire Museum professional staff in consultation with representatives of the Menominee Indian Tribe of Wisconsin.

History and Description of the Remains

In 1889, human remains representing, at minimum, one individual were removed from Lake Shawano in Shawano County, WI. A paper tag attached to the human remains (three teeth) states, “Taken from a Mound near Lake Shawan, Wisconsin By Dr. J. Jones—A.D. 1889.” No known individuals were identified. There are no associated funerary objects present.

In a telephone conversation on November 13, 1995, the Menominee Indian Tribe of Wisconsin's NAGPRA contact (David Grignon) verified that Lake Shawano was part of the Menominee's historically documented territory. Dr. J. Jones most likely refers to Dr. Joseph Jones (1833-1896), who was a professor at the University of Louisiana (1872-1893). Dr. Jones' archaeological research focused on Mound Builder sites, as supported by a journal article, “The Aboriginal Mound Builders of Tennessee” in The American Journalist (Vol. 3, No. 2 (April 1869), pp. 57-73). This evidence supports the provenience information provided on the paper tag.

Determinations Made by the Berkshire Museum

Officials of the Berkshire Museum have determined that:

• Pursuant to 25 U.S.C. 3001(9), the human remains described in this notice represent the physical remains of one individuals of Native American ancestry.

• Pursuant to 25 U.S.C. 3001(2), there is a relationship of shared group identity that can be reasonably traced between the Native American human remains and the Menominee Indian Tribe of Wisconsin.

Additional Requestors and Disposition

Lineal descendants or representatives of any Indian tribe or Native Hawaiian organization not identified in this notice that wish to request transfer of control of these human remains should submit a written request with information in support of the request to Jason Vivori, Berkshire Museum, 39 South Street, Pittsfield, MA 01201, telephone (413) 443-7171 ext. 341, email jvivori@berkshiremuseum.org, by July 18, 2018. After that date, if no additional requestors have come forward, transfer of control of the human remains to the Menominee Indian Tribe of Wisconsin may proceed.

The Berkshire Museum is responsible for notifying the Menominee Indian Tribe of Wisconsin that this notice has been published.

Dated: May 9, 2018.
Melanie O'Brien,
Manager, National NAGPRA Program.

[FR Doc. 2018-13041 Filed 6-15-18; 8:45 am]

BILLING CODE 4312-52-P